DEPARTMENT OF THE INTERIOR

National Park Service

[NPS-WASO-NRNHL-DTS#-39182; PPWOCRADI0, PCU00RP14.R50000]

National Register of Historic Places; Notification of Pending Nominations and Related Actions

AGENCY: National Park Service, Interior.

ACTION: Notice.

SUMMARY: The National Park Service is soliciting electronic comments on the significance of properties nominated before November 30, 2024, for listing or related actions in the National Register of Historic Places.

DATES: Comments should be submitted electronically by December 26, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 30, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ALABAMA

Geneva County

Slocomb Commercial District, Approx. 101-149 Commerce/Dalton Street. 113-180 Slocomb Street. Both sides east of Commerce/Dalton Street and the north side of Slocomb Street. 121-169 Lawrence Harris Highway on either side of Commerce/Dalton Street, Slocomb, SG100011226

Houston County

Ashford Commercial District, Roughly bounded by Adams Street to the N, the CSX railroad to the S, Fifth Avenue to the E, and Third Avenue and Ice House Lane to the W, Ashford, SG100011228

Montgomery County

Court Square Urban Renewal Area Historic District, Generally bounded by Madison Avenue, N Lawrence Street, Church Street, and Lee Street, Montgomery, SG100011227

ARIZONA

Maricopa County

Stoneman Road Military Trail Segment (Warfare Between Indians and Americans in Arizona MPS), Parcel bounded by Cave Creek Road, Mule Train Road, Stagecoach Pass, and Windmill Road, Carefree, MP100011210

CALIFORNIA

El Dorado County

United States Post Office—Main Street Branch (US Post Office in California 1900-1941 TR), 515 Main Street, Placerville, MP100011215

San Bernardino County

Chemehuevi Cemetery, Adobe Road, just northeast of the intersection with Sullivan Road. Twentynine Palms, SG100011256

Santa Barbara County

Ballard Adobes, 2411 Alamo Pintado Road, Ballard vicinity, SG100011216

DELAWARE

Sussex County

Isaacs & Sons Cold Storage Building, 107 Depot Stret, Georgetown, SG100011239

DISTRICT OF COLUMBIA

District of Columbia

House of Mercy, 2000 Rosemount Avenue NW, Washington, SG100011245

Shackleton, Pauline “Polly” House, 3232 Reservoir Road NW, Washington, SG100011255

IDAHO

Ada County

Brookover, J. Gordon and Barbara J., House, 4704 Hillcrest View Drive, Boise, SG100011242

ILLINOIS

Cook County

James C. Curtis & Co. Building, 1214-1222 W Van Buren Street, Chicago, SG100011204

2678 W Washington Boulevard, 2678 W Washington Boulevard, Chicago, SG100011219

MAINE

Hancock County

Crosby Lodge, 15 Oak Street, Hancock, SG100011223

Lincoln County

Averill—Philbrick House, 134 Golden Ridge Road, Alna, SG100011224

MICHIGAN

Wayne County

Dearborn Country Club, 800 North Military Street, Dearborn, SG100011221

NEW MEXICO

Orogrande School (New Deal in New Mexico MPS), 1158 Carroll Street, Orogrande, MP100011237

Quay County

Hurley, Arch and Ola, House, 117 West High Street, Tucumcari, SG100011238

OHIO

Hamilton County

Atlas National Bank Building, 530 Walnut Street, Cincinnati, SG100011243

Lucas County

Webster School, 424 E Manhattan Boulevard, Toledo, SG100011235

Medina County

McDowell, R.M. and Elizabeth, House, 205 South Prospect Street, Medina, SG100011234

Union County

Marysville Light and Water Company Plant, 409 North Main Street, Marysville, SG100011257

PENNSYLVANIA

Allegheny County

Schenley Farms Historic District (Boundary Increase II), Approx. intersection of Bigelow Blvd. and N Dithridge St., Pittsburgh, BC100011241

Armstrong County

Kittanning Passenger Station and Freight Depot, N Grant Avenue and Reynolds Avenue, Kittanning, SG100011233

Lehigh County

Valley of Allentown Scottish Rite Cathedral, 1533 Hamilton Street, Allentown, SG100011246

Philadelphia County

Continental Building, 400 Market Street, Philadelphia, SG100011231

St. Elisabeth's Episcopal Church, 1900 S 16th Street, Philadelphia, SG100011232

Willow Steam Plant, 411-419 N 9th Street, Philadelphia, SG100011244

SOUTH CAROLINA

Aiken County

Commercial Hotel, 235 Richland Avenue West, Aiken, SG100011230

Greenwood County

Edgewood School (Equalization Schools in South Carolina, 1951-1960), 200 Edgewood Street, Ninety Six, MP100011212

Richland County

Bob Russell Realty Building, 1931 Assembly Street and 1022 Calhoun Street, Columbia, SG100011213

WISCONSIN

Vilas County

Eagle River Downtown Historic District, 100-114 E Division St., 105-128 S Railroad St., 100-218 and 221-223 E Wall St., 118-123 S Main St., and 6 W Wall St., Eagle River, SG100011229

Additional documentation has been received for the following resource(s):

ARIZONA

Maricopa County

Story, F.Q., Neighborhood Historic District (Boundary Increase) (Additional Documentation), Roughly bounded by 17th Ave., Culver St., 15th Ave. and Lynwood St., also lots on Roosevelt St. and McDowell Rd., Phoenix, AD92001834

DISTRICT OF COLUMBIA

District of Columbia

Lockkeeper's House, C & O Canal Extension (Additional Documentation), SW corner of 17th St. and Constitution Ave. NW, Washington, AD73000218

ILLINOIS

Cook County

Immaculata High School (Additional Documentation), 600 W Irving Park Rd., Chicago, AD77000476

INDIANA

Marion County

Washington Street-Monument Circle Historic District (Additional Documentation), Roughly bounded by Delaware, Ohio, Capitol, and W Maryland Sts., Indianapolis, AD97001179

MAINE

Washington County

McCurdy Smokehouse (Additional Documentation), Water St., E side, at jct. with School St., Lubec, AD93000638

MINNESOTA

Dakota County

St. Stefan's Romanian Orthodox Church (Additional Documentation), 350 5th Ave. N, South St. Paul, AD04000461

St. Louis County

Duluth Commercial Historic District (additional Documentation) (Duluth's Central Business District, MPS), Superior and 1st bet. 4th Ave. W and 4th Ave. E, Duluth, AD06000455

PENNSYLVANIA

Allegheny County

Schenley Farms Historic District (Additional Documentation), Roughly bounded by Andover Terr., Centre, Bellefield, and Parkman Aves., Ditbridge, Thackeray, Forbes and Mawhinney, Pittsburgh, AD83002213

VIRGINIA

Petersburg INDEPENDENT CITY

Petersburg Old Town Historic District (Additional Documentation), Bounded by Appomattox River and Norfolk Southern RR tracks; I95 and N Madison St.; to Bollingbrook St,. E Bank and W Bank St., Brick House Run, and Commerce St.; and to Dunlop St. and railroad bed of Seaboard Coast Line and piers Seaboard Air Line, Petersburg (Independent City), AD80004314

WISCONSIN

Milwaukee County

Pabst, Frederick and Maria, House, 2000 W Wisconsin Ave., Milwaukee, AD75000073

Nomination(s) Submitted by Federal Preservation Officers

The State Historic Preservation Officer reviewed the following nomination(s) and responded to the Federal Preservation Officer within 45 days of receipt of the nomination(s) and supports listing the properties in the National Register of Historic Places.

ARIZONA

Yavapai County

Tuzigoot Developed Area Historic District (National Park Service Mission 66 Era Resources MPS), 25 West Tuzigoot Road, Tuzigoot National Monument (TUZI), Clarkdale, MP100011217

Authority: Section 60.13 of 36 CFR part 60.

Sherry A. Frear,
Chief, National Register of Historic Places/National Historic Landmarks Program.

[FR Doc. 2024-28981 Filed 12-9-24; 8:45 am]

BILLING CODE 4312-52-P